DEPARTMENT OF LABOR

Employment and Training Administration

[TA-W-63,897]

IAC Canton, Inc., A Subsidiary of International Automotive Components Group, North America, Inc., Canton, OH; Notice of Affirmative Determination Regarding Application for Reconsideration

By application dated October 29, 2008, United Steelworkers of America AFL-CIO, Local 550-L requested administrative reconsideration of the negative determination regarding workers' eligibility to apply for Trade Adjustment Assistance (TAA) and Alternative Trade Adjustment Assistance (ATAA) applicable to workers and former workers of the subject firm. The determination was issued on September 22, 2008. The Notice of Determination was published in the Federal Register on September 8, 2008 (73 FR 58982).

The initial investigation resulted in a negative determination based on the finding that imports of rubber sheets, dash insulators, and all rubber floor mats did not contribute importantly to worker separations at the subject firm and no shift of production to a foreign source occurred.

In the request for reconsideration, the petitioner provided additional information pertaining to a shift in subject plant production of rubber sheets, dash insulators, and all rubber floor mats to Canada.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 6th day of November 2008.
Elliott S. Kushner,
Certifying Officer, Division of Trade Adjustment Assistance.

[FR Doc. E8-26893 Filed 11-12-08; 8:45 am]

BILLING CODE 4510-FN-P